DEPARTMENT OF THE TREASURY

Submission for OMB Review; Comment Request

May 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 26, 2000 to be assured of consideration.

Internal Revenue Service (IRS)

OMB Number: 1545-0195.

Form Number: IRS Form 5213.

Type of Review: Extension.

Title: Election To Postpone Determination as To Whether the Presumption Applies That an Activity Is Engaged in for Profit.

Description: This form is used by individuals, partnerships, estates, trusts, and S corporations to make an election to postpone an IRS determination as to whether an activity is engaged in for profit for 5 years (7 years for breeding, training, showing, or racing horses). The data is used to verify eligibility to make the election.

Respondents: Business or other for-profit, Individual or households.

Estimated Number of Respondents/Recordkeepers: 10,730.

Estimated Burden Hours Per Respondent/Recordkeeper:

Recordkeeping | 7 min.
Learning about the law or the form | 10 min.
Preparing the form | 10 min.
Copying, assembling, and sending the form to the IRS | 20 min.

Frequency of Response: On occasion.

Estimated Total Reporting/Recordkeeping Burden: 8,262 hours.

OMB Number: 1545-0495.

Form Number: IRS Form 4506-A.

Type of Review: Extension.

Title: Request for Public Inspection or Copy of Exempt Organization IRS Form.

Description: Internal Revenue Code section 6104 states that if an organization described in section 501(c) or (d) is exempt from taxation under section 501(a) for any taxable year, the application for exemption is open for public inspection. This includes all supporting documents, any letter or other documents issued by the IRS concerning the application, and certain annual returns of the organization. Form 4506-A is used to request public inspection or a copy of these documents.

Respondents: Business or other for-profit, Individuals or households, Not-for-profit institutions, Farms, Federal Government, State, Local or Tribal Government.

Estimated Number of Respondents/Recordkeepers: 20,000.

Estimated Burden Hours Per Respondent/Recordkeeper:

Recordkeeping | 7 min.
Learning about the law or the form | 3 min.
Preparing the form | 13 min.
Copying, assembling, and sending the form to the IRS | 14 min.

Frequency of Response: On occasion.

Estimated Total Reporting/Recordkeeping Burden: 12,000 hours.

OMB Number: 1545-0865.

Form Number: IRS Form 8264.

Type of Review: Extension.

Title: Application for Registration of a Tax Shelter.

Description: Organizers of certain tax shelters are required to register them with the IRS using Form 8264. Other persons may have to register the tax shelter if the organizer doesn't. We use the information to five the tax shelter a registration number. Sellers of interests in the tax shelter furnish the number of investors who report the number on their tax returns.

Respondents: Business or other for-profit, Individuals or households.

Estimated Number of Respondents/Recordkeepers: 1,000.

Estimated Burden Hours Per Respondent/Recordkeeper:

Recordkeeping | 31 hr., 49 min.
Learning about the law or the form | 1 hr., 17 min.
Preparing, copying, assembling, and sending the form to the IRS | 1 hr., 52 min.

Frequency of Response: On occasion.

Estimated Total Reporting/Recordkeeping Burden: 34,960 hours.

OMB Number: 1545-0881.

Form Number: IRS Form 8271.

Type of Review: Extension.

Title: Investor Reporting of Tax Shelter Registration Number.

Description: All persons who are claiming a deduction, loss, credit, or other tax benefit, or reporting any income on their returns from a tax shelter required to be registered (under IRC 6111) must report the tax shelter registration number on that return. Form 8271 is used for this purpose. We use the information to associate claimed benefits with the tax shelter and to determine if any compliance actions are needed.

Respondents: Individuals or households, Business or other for-profit, Not-for-profit institutions, Farms, State, Local or Tribal Government.

Estimated Number of Respondents/Recordkeepers: 297,500.

Estimated Burden Hours Per Respondent/Recordkeeper:

Recordkeeping | 7 min.
Learning about the law or the form | 8 min.
Preparing the form | 17 min.
Copying, assembling, and sending the form to the IRS | 10 min.

Frequency of Response: Annually.

Estimated Total Reporting/Recordkeeping Burden: 205,275 hours.

Clearance Officer: Garrick Shear, Internal Revenue Service, Room 5244, 1111 Constitution Avenue, NW, Washington, DC 20224.

OMB Reviewer: Alexander T. Hunt (202) 395-7860, Office of Management and Budget, Room 10202, New Executive Office Building Washington, DC 20503.

Lois K. Holland,
Departmental Reports Management Officer.

[FR Doc. 00-13121 Filed 5-24-00; 8:45 am]

BILLING CODE 4830-01-P